NATIONAL CREDIT UNION ADMINISTRATION

Sunshine Act Meeting; Notice of Meeting

TIME AND DATE: 10 a.m., Wednesday, March 13, 2002.

PLACE: Board Room, 7th Floor, Room 7047, 1775 Duke Street, Alexandria, VA 22314-3428.

STATUS: Open.

MATTERS TO BE CONSIDERED: 1. Requests from two (2) Federal Credit Unions to Expand their Community Charters.

2. Request from a Federal Credit Union to add an Underserved Area to its Field of Membership.

3. Request from a Corporate Federal Credit Union for a Field of Membership Amendment.

4. Connecticut Member Business Loan Rule.

5. Final Rule: Parts 741 and 702, Financial and Statistical Reports.

RECESS: 11:15 a.m.

TIME AND DATE: 11:30 a.m., Wednesday, March 13, 2002.

PLACE: Board Room, 7th Floor, Room 7047, 1775 Duke Street, Alexandria, VA 22314-3428.

STATUS: Closed.

MATTERS TO BE CONSIDERED: 1. Administrative Action under section 206 of the Federal Credit Union Act. Closed pursuant to exemptions (8), (9)(A)(ii) and (9)(B).

2. Request by a Corporate Credit Union to waive Part III Expanded Authorities and amend Part IV Expanded Authorities. Closed pursuant to exemption (8).

3. Revisions to Human Resource Delegations of Authority. Closed pursuant to exemption (2) and (6).

FOR FURTHER INFORMATION CONTACT: Becky Baker, Secretary of the Board, Telephone 703-518-6304.

Becky Baker,
Secretary of the Board.

[FR Doc. 02-5765 Filed 3-6-02; 2:15 pm]

BILLING CODE 7535-01-M